NATIONAL AERONAUTICS AND SPACE ADMINISTRATION

[NOTICE: 26-002]

Centennial Challenges Deep Space Food Challenge: Mars to Table Registration

AGENCY: National Aeronautics and Space Administration (NASA).

ACTION: Notice, correction.

SUMMARY: Deep Space Food Challenge: Mars to Table is open, and teams that wish to compete may now register. NASA initiated Centennial Challenges in 2005 to create public prize competitions that stimulate revolutionary research, technology development, and prototype demonstrations. These challenges strive to be audacious and inspirational with a focus on long-range NASA goals while addressing complex mission needs. Challenges also encourage hands-on, grassroots approaches to identifying and cultivating communities of innovators, including small businesses, student groups, and individuals. Centennial Challenges are part of NASA's Prizes, Challenges, and Crowdsourcing program withing the agency's Space Technology Mission Directorate. NASA's Deep Space Food Challenge: Mars to Table is a prize competition with a total prize purse of $750,000 USD, (seven hundred and fifty thousand United States dollars) to be awarded to competitor teams that develop a complete space food system for a planetary surface that integrates a variety of food sources and associated technologies, and that meets 100% of the crew's variable nutritional needs within the constraints of a Martian habitat.

FOR FURTHER INFORMATION CONTACT: To register or for additional information regarding NASA's Deep Space Food Challenge: Mars to Table, please visit: go.nasa.gov/marstotable.

Questions and comments regarding the Challenge should be addressed to Jennifer Edmunson, 256-544-4071, Centennial Challenges Acting Program Manager, NASA Marshall Space Flight Center, Huntsville, AL 35812. Email address: hq-stmd-centennialchallenges@mail.nasa.gov. For general information on NASA prize competitions, challenges, and crowdsourcing opportunities, please visit: www.nasa.gov/get-involved.

SUPPLEMENTARY INFORMATION: In the Federal Register of January 13, 2026, in FR Doc. 2026-00450, on page 1344, in the second column, change the first date in the DATES section to read:

“January 13, 2026”

Nanette Smith,
Team Lead, NASA Directives and Regulations.

[FR Doc. 2026-00787 Filed 1-15-26; 8:45 am]

BILLING CODE 7510-13-P